DEPARTMENT OF THE INTERIOR

National Park Service

Final Environmental Impact Statement; Reconstruction of the Furnace Creek Water Collection System; Death Valley National Park, Inyo County, CA; Notice of Approval of Record of Decision

Summary: Pursuant to § 102(2)(C) of the National Environmental Policy Act of 1969 (Pub. L. 91-190, as amended) and the implementing regulations promulgated by the Council on Environmental Quality (40 CFR part 1505.2), the Department of the Interior, National Park Service has prepared, and the Regional Director, Pacific West Region has approved the Record of Decision (and Statement of Findings for Wetlands and Floodplains) for the reconstruction of the Furnace Creek water collection system at Death Valley Natioal Park. Reconstructing the water collection system affords the park with the opportunity to provide a reliable quality and quantity of potable water to the users in the Furnace Creek area, to promote conservation of biological and cultural resources in the Texas-Travertine Springs area, and to enhance water resource protection and management in the Furnace Creek area. The no-action “30-day wait period” was officially initiated July 14, 2006, with the U.S. Environmental Protection Agency's Federal Register notification of the filing of the Final Environmental Impact Statement.

Decision: As soon as practicable the park will begin to implement the Preferred Alternative (with minor modifications from Alternative C as described in the Draft and Final EIS); as documented in the EIS, this alternative was deemed to be the “environmentally preferred” course of action and it was further determined that implementation of the selected actions will not constitute an impairment of park resources and values. In doing so, the park can rebuild the outdated water collection system in the Furnace Creek area to supply safe and reliable potable and nonpotable water to the park's main visitor use area, separate the potable and nonpotable water systems in the project area, and provide nonpotable water from the Inn Tunnel and a relocated Furnace Creek Wash collection gallery. The selected actions will provide potable water from two to three new groundwater wells in the Texas Springs Syncline, and will treat water collected for potable purposes using a reverse osmosis water treatment plant. The concentrate water generated from the water treatment process will be conveyed to the park's sewage treatment plant for evaporation. Non-potable water will be collected from Furnace Creek Wash and the Inn Tunnel. Water for riparian restoration purposes will be released from Texas Springs and Travertine Springs Lines 1, 2, 3, and 4. To meet maximum daily flow requirements, Alternative 3 will collect 600 gallons per minute (GPM) of potable water and 900 gpm of nonpotable water, and release approximately 770 gpm of riparian water.

SUPPLEMENTARY INFORMATION: Based upon agency comments and refinements desired by the planning team collaborative, the selected plan includes several adjustments from the Preferred Alternative as detailed in the EIS, including but not limited to the determination that reverse osmosis discharge water will be piped to wastewater treatment lagoons, thus eliminating any potential for unacceptable environmental effects through other discharge options. The selected project and three alternatives were identified and analyzed in the Final EIS, and previously in the Draft EIS (the latter was distributed in October, 2005). A broad spectrum of foreseeable environmental consequences were assessed, and appropriate mitigation measures identified, for each alternative. Beginning with early scoping, through the preparation of Draft and Final EIS, a series of public meetings and open-houses were conducted locally. Overall approximately 10 written comments were received (as noted above, some agency comments served as the source of minor adjustments to the final selected plan). Key consultations or other contacts which aided in preparing the EIS involved (but were not limited to) the California State Historic Preservation Office, the Lahotan Region Water Quality Control Board, the California Department of Transportation, the Timbisha Shoshone Tribe and its Tribal Historic Preservation Officer, Xanterra Parks and Resorts, the Bureau of Indian Affairs, and the U.S. Fish and Wildlife Service.

Copies: Interested parties desiring to review the Record of Decision may obtain a complete copy by contacting Superintendent James T. Reynolds, Death Valley National Park, P.O. Box 579, Death Valley, California 92328; telephone (760) 786-3227 or via e-mail at deva_superintendent@nps.gov.

Dated: May 21, 2007.
Jonathan B. Jarvis,
Regional Director, Pacific West Region.

[FR Doc. 07-3838 Filed 8-6-07; 8:45 am]

BILLING CODE 4312-FF-M